SMALL BUSINESS ADMINISTRATION

[Disaster Declaration # 10428 and # 10429]

Missouri Disaster Number MO-00002

AGENCY: U.S. Small Business Administration.

ACTION: Amendment 1.

SUMMARY: This is an amendment of the Presidential declaration of a major disaster for the State of Missouri (FEMA-1631-DR ), dated March 16, 2006.

Incident: Severe Storms, Tornadoes, and Flooding.

Incident Period: March 11, 2006 through March 13, 2006.

Effective Date: March 24, 2006.

Physical Loan Application Deadline Date: May 15, 2006.

EIDL Loan Application Deadline Date: December 15, 2006.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Missouri, dated March 16, 2006, is hereby amended to include the following areas as adversely affected by the disaster:

Primary Counties:

Benton, Boone, Bates, Carroll, Cass, Cedar, Cooper, Greene, Henry, Howard, Iron, Jefferson, Lawrence, Lincoln, Mississippi, Montgomery, Morgan, New Madrid, Newton, Phelps, Putnam, Scott, St. Clair, Taney, Vernon, Webster, Wright

Contiguous Counties: Missouri

Adair, Barry, Barton, Caldwell, Callaway, Cole, Crawford, Dade, Dent, Dunklin, Franklin, Gasconade, Jasper, Laclede, Livingston, Maries, Mcdonald, Mercer, Miller, Moniteau, Osage, Ozark, Pemiscot, Pike, Pulaski, Ray, Reynolds, Schuyler, St. Charles, St. Louis, Stoddard, Sullivan, Texas, Warren, Washington, Wayne

Arkansas

Boone, Carroll, Marion

Illinois

Alexander, Calhoun

Iowa

Appanoose, Wayne

Kansas

Bourbon, Cherokee, Crawford, Johnson, Linn, Miami

Kentucky

Ballard, Carlisle, Fulton, Hickman

Oklahoma

Ottawa

Tennessee

Lake

All other information in the original declaration remains unchanged.

(Catalog of Federal Domestic Assistance Numbers 59002 and 59008)

Roger B. Garland,
Acting Associate Administrator for Disaster Assistance.

[FR Doc. E6-4752 Filed 3-31-06; 8:45 am]

BILLING CODE 8025-01-P